DEPARTMENT OF HEALTH AND HUMAN SERVICES

Centers for Disease Control and Prevention

[Program Announcement 04182]

Rapid Development of Infrastructure, Monitoring and Evaluation and Behavior Change Communication Activities at the Ministry Responsible for the Fight Against AIDS in Cote d'Ivoire; Notice of Intent To Fund Single Eligibility Award

A. Purpose

The Centers for Disease Control and Prevention (CDC) announces the intent to fund fiscal year (FY) 2004 funds for a cooperative agreement program to rapidly help the Ministry responsible for the fight against AIDS (MLS) to develop sustainable, indigenous capacity to support its role as the principal coordinating body for a multisectoral, decentralized and comprehensive response to HIV/AIDS in the Republic of Cote d'Ivoire. The Catalog of Federal Domestic Assistance number for this program is 93.941.

B. Eligible Applicant

The Ministry responsible for the fight against AIDS of Cote d'Ivoire (MLS) is the only organization that can apply for these funds. MLS is mandated by the government of Cote d'Ivoire to coordinate HIV/AIDS activities in the country, including monitoring and evaluation (M&E) of programs and behavior change communication (BCC) activities.

C. Funding

Approximately $250,000 is available in FY 2004 to fund this award. It is expected that the award will begin on or before September 1, 2004, and will be made for a 12-month budget period within a project period of up to three years. Funding estimates may change.

D. Where To Obtain Additional Information

For general comments or questions about this announcement, contact: Technical Information Management, CDC Procurement and Grants Office, 2920 Brandywine Road, Atlanta, GA 30341-4146, Telephone: 770-488-2700.

For program technical assistance, contact: Karen Ryder, Project Officer, CDC/Projet RETRO-CI, 2010 Abidjan Place, Dulles, Virginia 20189-2010, Telephone: (225) 21-25-41-89, E-mail: kkr1@cdc.gov.

For financial, grants management, or budget assistance, contact: Shirley Wynn, Contract Specialist, CDC Procurement and Grants Office, 2920 Brandywine Road, Atlanta, GA 30341, Telephone: 770-488-1515, E-mail: zbx6@cdc.gov.

Dated: June 16, 2004.
William P. Nichols,
Acting Director, Procurement and Grants Office, Centers for Disease Control and Prevention.

[FR Doc. 04-14176 Filed 6-22-04; 8:45 am]

BILLING CODE 4163-18-P